ENVIRONMENTAL PROTECTION AGENCY

40 CFR Part 82

[FRL-7659-5]

Protection of Stratospheric Ozone: Notice of Data Availability; New Information Concerning Carbon Dioxide Total Flooding Fire Extinguishing Systems Listed Under the SNAP Program as an Acceptable Substitute for Ozone-Depleting Halons

AGENCY: Environmental Protection Agency (EPA).

ACTION: Notice of data availability and request for comment.

SUMMARY: The Environmental Protection Agency (EPA) is making available to the public new information related to carbon dioxide (CO2) total flooding fire extinguishing systems, which are currently listed in the fire suppression sector as an acceptable substitute for ozone-depleting halon 1301 under the Significant New Alternatives Policy (SNAP) Program, pursuant to section 612 of the Clean Air Act. Under the Clean Air Act, as amended in 1990, and our regulations, the SNAP program reviews alternatives to Class I and Class II ozone-depleting substances and approves use of alternatives which reduce the overall risk to public health and the environment. Beginning with the March 18, 1994 rule which established the SNAP program, a number of alternative fire protection technologies have been approved, including CO2 systems which was listed as an acceptable halon 1301 substitute in total flooding applications.

Since the initial SNAP listing, EPA has continued to raise awareness about the precautions needed in using CO2 systems and has worked with the fire protection industry to promote responsible use of these and other technologies. The Agency has also collected additional information on potential safety hazards associated with carbon dioxide systems, and on the increasing use of CO2 total flooding fire extinguishing systems, particularly in the marine sector for systems protecting machinery spaces on ships. Today, the Agency is making available for public review and comment two reports: Review of the Use of Carbon Dioxide Total Flooding Fire Extinguishing Systems (Wickham, R.T., 2003) and Carbon Dioxide as a Fire Suppressant: Examining the Risks (EPA, 2000). We plan to consider the information contained in these two reports and any comment received during the comment period in reviewing the current SNAP listing for the use of CO2 in total flooding applications. If, after considering this information and comments, we intend to change the current acceptability determination, we will issue a proposed rule.

DATES: We will accept comments on the new information through June 10, 2004.

ADDRESSES: Comments may also be submitted electronically, by facsimile, or through hand delivery/courier. Follow the detailed instructions as provided at the beginning of the SUPPLEMENTARY INFORMATION section.

FOR FURTHER INFORMATION CONTACT: For further information about this notice, contact Bella Maranion by telephone at (202) 343-9749, or by e-mail at maranion.bella@epa.gov. Notices and rulemakings under the SNAP program are available on the Internet at http://www.epa.gov/ozone/snap/regs. Information related to this notice is available online through EPA Dockets at http://www.epa.gov/edocket/ as described below in Section I under SUPPLEMENTARY INFORMATION.

SUPPLEMENTARY INFORMATION:

Table of Contents

I. General Information

A. How Can I Get Copies of Related Information?

B. How and To Whom Do I Submit Comments?

C. How Should I Submit CBI To the Agency?

II. What is today's action?

III. What information is EPA making available for review?

IV. Where can I get the information?

V. Why is EPA making this information available?

VI. What supporting documentation do I need to include in my comments?

I. General Information

A. How Can I Get Copies of Related Information?

1. Docket

EPA has established an official public docket for this action under Docket ID No. OAR-2004-0024. The official public docket consists of the documents specifically referenced in this action, any public comments received, and other information related to this action. Although a part of the official docket, the public docket does not include Confidential Business Information (CBI) or other information whose disclosure is restricted by statute. The official public docket is the collection of materials that is available for public viewing at the Air and Radiation Docket in the EPA Docket Center, (EPA/DC) EPA West, Room B102, 1301 Constitution Ave., NW., Washington, DC. The EPA Docket Center Public Reading Room is open from 8:30 a.m. to 4:30 p.m., Monday through Friday, excluding legal holidays. The telephone number for the Reading Room is (202) 566-1742, and the telephone number for the Air and Radiation Docket is (202) 566-1742.

2. Electronic Access

An electronic version of the public docket is available through EPA's electronic public docket and comment system, EPA Dockets. You may use EPA Dockets at http://www.epa.gov/edocket/ to submit or view public comments, access the index listing of the contents of the official public docket, and to access those documents in the public docket that are available electronically. Once in the system, select “search”, then key in the appropriate docket identification number. Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. Although not all docket materials may be available electronically, you may still access any of the publicly available docket materials through the docket facility identified in section I.B.1. above. For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket. Public comments submitted on computer disks that are mailed or delivered to the docket will be transferred to EPA's electronic public docket. Public comments that are mailed or delivered to the Docket will be scanned and placed in EPA's electronic public docket. Where practical, physical objects will be photographed, and the photograph will be placed in EPA's electronic public docket along with a brief description written by the docket staff.

B. How and to Whom Do I Submit Comments?

You may submit comments electronically, by mail, by facsimile, or through hand delivery/courier. To ensure proper receipt by EPA, identify the appropriate docket identification number in the subject line on the first page of your comment. Please ensure that your comments are submitted within the specified comment period. Comments received after the close of the comment period will be marked “late.” EPA is not required to consider these late comments. If you wish to submit CBI or information that is otherwise protected by statute, please follow the instructions in section I.D. Do not use EPA Dockets or e-mail to submit CBI or information protected by statute.

1. Electronically. If you submit an electronic comment as prescribed below, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment. Your use of EPA's electronic public docket to submit comments to EPA electronically is EPA's preferred method for receiving comments. Go directly to EPA Dockets at http://www.epa.gov/edocket, and follow the online instructions for submitting comments. To access EPA's electronic public docket from the EPA Internet Home Page, select “Information Sources”, “Dockets”, and “EPA Dockets”. Once in the system, select “search,” and then key in Docket ID No. OAR-2004-0024. The system is an “anonymous access” system, which means EPA will not know your identity, e-mail address, or other contact information unless you provide it in the body of your comment.

Comments may be sent by electronic mail (e-mail) to A-And-R-Docket@epa.gov, Attention Docket ID No. OAR-2004-0024. In contrast to EPA's electronic public docket, EPA's e-mail system is not an “anonymous access” system. If you send an e-mail comment directly to the Docket without going through EPA's electronic public docket, EPA's e-mail system automatically captures your e-mail address. E-mail addresses that are automatically captured by EPA's e-mail system are included as part of the comment that is placed in the official public docket, and made available in EPA's electronic public docket.

You may submit comments on a disk or CD ROM that you mail to the mailing address identified in section I.B.2. These electronic submissions will be accepted in WordPerfect or ASCII file format. Avoid the use of special characters and any form of encryption.

2. By Mail. Send two copies of your comments to: Air and Radiation Docket, Environmental Protection Agency, Mailcode: 6102T, 1200 Pennsylvania Ave., NW, Washington, DC 20460, Attention Docket ID No. OAR-2003-0228.

3. By Hand Delivery or Courier. Deliver your comments to: EPA Docket Center, (EPA/DC) EPA West, Room B102, 1301 Constitution Ave., NW., Washington, DC., Attention Docket ID No. OAR-2003-0228. Such deliveries are only accepted during the Docket's normal hours of operation as identified in section I.B.1.

4. By Facsimile. Fax your comments to: 202-566-1741, Attention Docket ID. No. OAR-2003-0228.

C. How Should I Submit CBI to the Agency?

Do not submit information that you consider to be CBI electronically through EPA's electronic public docket or by e-mail. Send or deliver information identified as CBI only to the following address: Bella Maranion, U.S. EPA, 8th floor, 1310 L Street NW., Washington DC 20005 via overnight delivery service, Attention Docket ID No. OAR-2004-0024. You may claim information that you submit to EPA as CBI by marking any part or all of that information as CBI (if you submit CBI on disk or CD ROM, mark the outside of the disk or CD ROM as CBI and then identify electronically within the disk or CD ROM the specific information that is CBI). Information so marked will not be disclosed except in accordance with procedures set forth in 40 CAR part 2.

In addition to one complete version of the comment that includes any information claimed as CBI, a copy of the comment that does not contain the information claimed as CBI must be submitted for inclusion in the public docket and EPA's electronic public docket. If you submit the copy that does not contain CBI on disk or CD ROM, mark the outside of the disk or CD ROM clearly that it does not contain CBI. Information not marked as CBI will be included in the public docket and EPA's electronic public docket without prior notice. If you have any questions about CBI or the procedures for claiming CBI, please consult the person identified in the FOR FURTHER INFORMATION CONTACT section.

II. What Is Today's Action?

Today, we are making new information available on the use of CO2 total flooding fire extinguishing systems listed under EPA's SNAP program as acceptable substitutes for ozone-depleting halon 1301 in total flooding applications (59 FR 13044). Under the terms of the Montreal Protocol on Substances that Deplete the Ozone Layer, EPA promulgated regulations to phase out the production and import of halon 1301 effective January 1, 1994. In response to the halon phase out, the fire protection industry has developed a number of safe, effective alternatives. The SNAP program reviews alternatives to Class I and Class II ozone-depleting substances and approves use of alternatives which reduce the overall risk to public health and the environment. A number of alternatives have been suggested by industry, including CO2 systems. The March 18, 1994 final rule established the SNAP program and issued EPA's initial decisions on the acceptability and unacceptability of substitutes for ozone-depleting substances. The original SNAP rule listed carbon dioxide as an acceptable halon 1301 substitute in total flooding applications. At the time, EPA noted that while water, carbon dioxide, foam, and dry chemical were currently in use, these substances fell within the definition of alternative technology for fire suppression and explosion protection (59 FR 13101). In these cases, EPA simply listed these as acceptable and noted their applicable National Fire Protection Association (NFPA) industry standards; EPA did not perform the same assessment of potential health and environmental impacts as for the new alternative technologies such as water mist systems and the new in-kind fire suppressants such as hydrofluorocarbons and inert gases.

In 2000, EPA published a report Carbon Dioxide as a Fire Suppressant: Examining the Risks, to provide users of total flooding halon systems who may be unfamiliar with total flooding CO2 systems with information regarding the potential safety hazards associated with carbon dioxide systems, including accidental discharges or improper use. Appropriate precautions must be taken before switching to CO2 systems. With the report, EPA attempted to raise awareness and promote the responsible use of CO2 fire suppression systems.

Since that publication, EPA received information indicating a resurgence in use of CO2 total flooding fire extinguishing systems, particularly in the marine sector for systems protecting machinery spaces on ships. In 2003, EPA funded a report to provide information on the growing use of CO2 fire extinguishing systems, particularly in the marine market. The report Review of the Use of Carbon Dioxide Total Flooding Fire Extinguishing Systems (Wickham, Robert T., 2003) considers the personnel safety risks from use in occupied areas, compares these systems to halon and other halon alternatives, and recommends changes in industry standards for improving safety.

Today, the Agency is making available for public review and comment these two reports. The purpose of making the reports available is to request comment on the accuracy and completeness of the technical information and data. We plan to consider the information in these reports and any comment received during the comment period in reviewing the current SNAP listing for the use of CO2 in total flooding fire extinguishing applications. If, based on our review and consideration of comments, we determine to change our current acceptability listing decision, we will issue a proposed rule.

III. What Information Is EPA Making Available for Review and Comment?

The Agency is seeking comment on the accuracy and thoroughness of the information in the above reports: Carbon Dioxide as a Fire Suppressant: Examining the Risks and Review of the Use of Carbon Dioxide Total Flooding Fire Extinguishing Systems, specifically:

—Overview of historical and current use of CO2 fire extinguishing systems;

—Potential risks of CO2 systems;

—The comparison of CO2 systems with other halon alternative systems in terms of technical and economic viability;

—Personnel safety standards in existing regulations, standards, and codes.

IV. Where Can I Get the Information Being Made Available for Comment?

All of the information on which we are seeking comment can be obtained through the Air Docket (see Supplemental Information section above for docket contact info) with the reference numbers as follows:

—Carbon Dioxide as a Fire Suppressant: Examining the Risks Air Docket, OAR-2004-0024 reference number II-A-1

—Report on the Use of Carbon Dioxide Total Flooding Fire Extinguishing Systems Air Docket, OAR-2004-0024 reference number II-A-2

V. Why Is EPA Making This Information Available?

We are considering whether to revise the current acceptable SNAP determination for CO2 as a halon 1301 substitute in total flooding applications because of reports on increasing use and continuing injuries and fatalities, indicating CO2 systems may pose greater risks to human health than other available substitutes. We are soliciting comment on this new information to ensure that we use the most accurate information available in our review of the current listing for CO2 total flooding fire extinguishing systems. The Agency is providing the public with an opportunity to comment on the quality of the available information and to provide additional data for our consideration. We will use this information to ensure that we fully consider issues relating to the technical viability of alternatives, human health and safety, and industry impacts in our review of the current SNAP listing for CO2 systems in total flooding applications.

VI. What Supporting Documentation Do I Need To Include in My Comments?

Please provide any published studies or data supporting your statements.

Dated: May 3, 2004.
Brian McLean,
Director, Office of Atmospheric Programs, Office of Air and Radiation.

[FR Doc. 04-10651 Filed 5-10-04; 8:45 am]

BILLING CODE 6560-50-P